DEPARTMENT OF TRANSPORTATION

Surface Transportation Board

[STB Finance Docket No. 33894]

Gateway Western Railway Company—Trackage Rights Exemption—The Kansas City Southern Railway Company

The Kansas City Southern Railway Company (KCS) has agreed to grant non-exclusive overhead trackage rights to Gateway Western Railway Company (GWWR) ¹ over KCS” rail line extending between milepost 5.59 near Airline Junction, MO, and milepost 29.49 near Grandview, MO, for a total distance of approximately 23.9 miles.²

¹ KCS and GWWR are commonly controlled and affiliated railroad companies. See Kansas City Southern Industries, Inc., KCS Transportation Company, and The Kansas City Southern Railway Company—Control—Gateway Western Railway Company and Gateway Eastern Railway Company, STB Finance Docket No. 33311 (STB served May 1, 1997).

² A redacted version of the trackage rights agreement between KCS and GWWR was filed with the notice of exemption. The full version of the agreement, as required by 49 CFR 1180.6(a)(7)(ii), was concurrently filed under seal along with a motion for a protective order. A protective order was served July 27, 2000.

The purpose of the trackage rights is to allow GWWR to access KCS” new automotive and intermodal facility located at the former Richards Gebaur Airport south of Kansas City, avoiding interchange costs and delays and allowing enhanced train scheduling and equipment utilization.

The transaction was scheduled to be consummated on or shortly after July 26, 2000.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33894, must be filed with the Surface Transportation Board, Office of the Secretary, Case Control Unit, 1925 K Street, NW., Washington, DC 20423-0001. In addition, one copy of each pleading must be served on Robert K. Dreiling, Esq., The Kansas City Southern Railway Company, 114 West Eleventh Street, Kansas City, MO 64105.

Board decisions and notices are available on our website at “WWW.STB.DOT.GOV.”

Decided: July 27, 2000.
By the Board, David M. Konschnik, Director, Office of Proceedings.
Vernon A. Williams,
Secretary.

[FR Doc. 00-19781 Filed 8-2-00; 8:45 am]

BILLING CODE 4915-00-P